DEPARTMENT OF COMMERCE

National Oceanic and Atmospheric Administration

[XRIN: 0648-XB23]

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Limited Access Privilege (LAP) Program Exploratory Workgroup in Charleston, SC.

DATES: The meeting will take place August 1-2, 2007. See SUPPLEMENTARY INFORMATION.

ADDRESSES: The meeting will be held at the Hilton Garden Inn, Charleston Airport, 5265 International Boulevard, North Charleston, SC 29418; telephone: (877) 782-9444 or (843) 308-9330; fax: (843) 308-9331.

Council address: South Atlantic Fishery Management Council, 4055 Faber Place Drive, Suite 201, North Charleston, SC 29405.

FOR FURTHER INFORMATION CONTACT: Kim Iverson, Public Information Officer,; telephone: (843) 571-4366 or toll free (866) SAFMC-10; fax: (843) 769-4520; email: kim.iverson@safmc.net.

SUPPLEMENTARY INFORMATION: Members of the LAP Program Exploratory Workgroup will meet from 1 p.m. to 5 p.m. on August 1, 2007, and from 8:30 a.m. to 3 p.m. on August 2, 2007. The meeting is being convened to address issues relevant to the Council's consideration of implementing a Limited Access Privilege Program for the commercial snapper grouper fishery in the South Atlantic region.

Items for discussion by the Workgroup include: (1) Presentations and discussion with fishermen from the Gulf of Mexico regarding the implementation of Limited Access Privilege Programs in the Gulf region, and (2) discussion of design characteristics of LAP Programs for the South Atlantic. These characteristics include options for caps on ownership, species to include in a LAP Program, and underage and overage allowances.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the Council office (see ADDRESSES) 3 days prior to the meeting.

Note: The times and sequence specified in this agenda are subject to change.

Dated: July 2, 2007.
Tracey L. Thompson,
Acting Director, Office of Sustainable Fisheries, National Marine Fisheries Service.

[FR Doc. E7-13065 Filed 7-3-07; 8:45 am]

BILLING CODE 3510-22-S